POSTAL SERVICE

Privacy Act of 1974; System of Records

AGENCY: Postal Service™.

ACTION: Notice of modification to existing systems of records.

SUMMARY: The United States Postal Service® is proposing to modify a Customer Privacy Act System of Records to enable the Postal Service to collect additional information from customers who register with usps.com online. Such information will include technical information pertaining to the computers, software, and devices that registrants use to access usps.com, as well as information supplied by businesses that participate in promotional marketing campaigns. These changes will enhance the Postal Service's abilities to verify a registrant's identity online, identify and mitigate fraudulent transactions, and to improve usps.com as well as postal products and services. Additional updates are being made to expand the types of business specific information maintained by the Postal Service in the Customer Registration application.

DATES: These revisions will become effective without further notice on July 21, 2014 unless comments received on or before that date result in a contrary determination.

ADDRESSES: Comments may be mailed or delivered to the Privacy and Records Office, United States Postal Service, 475 L'Enfant Plaza SW., Room 9517, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their amended systems of records in the Federal Register when there is a revision, change, or addition. The Postal Service™ has reviewed this system of records and has determined that this Customer Privacy Act System of Records should be revised to modify categories of records in the system.

I. Background

To date, approximately 20 million customers (individuals and corporate entities) conduct transactions with the Postal Service online through usps.com. To create an account on usps.com, users must register through the Customer Registration application. This application requires each registrant to submit personal, user-specific information such as his or her name, physical address, email address, and phone number, to enable the registrant to make purchases for postal products and services online.

Additional information is collected from the customer automatically when the customer registers through usps.com, such as the registrant's Internet Protocol (IP) address, domain name, operating system versions, browser version, date and time of connection, and geographic location. This information is used to support the Customer Registration application and provide a secure environment for customer transactions.

The Customer Registration application is a target for various types of fraudulent activity, such as the creation of fraudulent accounts, identity theft, and unauthorized account access. Consistent with the official USPS Privacy Policy, available at www.usps.com/privacypolicy, the Postal Service has implemented policies and programs that attempt to identify and mitigate such fraudulent activities, including the collection and analysis of Internet Protocol (IP) addresses from users of usps.com for the purposes of identifying potential fraudulent activities. While these policies and programs have had success, the Postal Service is seeking to enhance its ability to identify and mitigate fraud through the collection of additional types of customer information during the Customer Registration process. Accordingly, the Postal Service is seeking to amend System of Records 810.100, www.usps.com Registration, to authorize such collection.

The Postal Service is also proposing to maintain information from business customers regarding promotional marketing campaigns in which they have participated or would like to participate. Such information would include details about the business, whether the business would like to participate in a mailing, shipping or Postal-related program, and any ideas the business may have for programs that might best suit its needs.

The Postal Service is also amending categories of records in the system, business specific information, to reflect additional data elements that will be maintained in the Customer Registration application.

II. Rationale for Changes to USPS Privacy Act Systems of Records

System of Records 810.100, www.usps.com Registration, is being modified to account for the collection of additional information pertaining to the computers, devices, networks, and software that customers use to conduct transactions through usps.com. This information includes: (1) Device identification number (device ID), which is a unique or distinctive number associated with a smartphone or other digital device, (2) Media Access Control (MAC) address, a unique identifier assigned to network interfaces for communications and associated with the computer hardware that enables a device such as a smartphone or laptop to connect to a computer network, and, (3) user agent information, which contains information about the software acting on behalf of the customer when the customer connects and interacts with a Web site such as usps.com.

The organization routinely will analyze data collected from the customer, including the additional information specified above, thereby enhancing current fraud protection controls. When specific fraud is identified against a customer account, the organization will communicate the incident to the registrant and offer recommended steps to enhance the customer's protection.

Collecting information from businesses regarding promotional marketing campaigns would further a purpose already listed within this system of records—“To permit customer feedback in order to improve usps.com or USPS products and services.” The Postal Service values its business customers, and welcomes any information they wish to share in connection with USPS promotional marketing campaigns. By associating this information with a business customer's account, the Postal Service will be better able to learn about and serve that customer. Additionally, such information may aid the Postal Service in making improvements to usps.com as well as to Postal Service products and services.

This SOR is also being amended to include information on whether a USPS business customer is a mail owner, a mail service provider, a PC Postage user, and/or a PC postage vendor. Such information, which is currently collected and stored in other postal information systems (Program Registration and Postalone!) will now be maintained in the Customer Registration database and will enable businesses to participate in Package Service programs, to receive mail tracking data, to receive incentives on certain mail volumes, or to avail themselves of other postal features available to business customers.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluations. The Postal Service does not expect this amended system of records to have any adverse effect on individual privacy rights. The affected systems are as follows:

USPS 810.100

SYSTEM NAME: www.usps.com Registration

Accordingly, for the reasons stated, the Postal Service proposes changes in the existing system of records as follows:

USPS 810.100

SYSTEM NAME:

www.usps.com Registration

CATEGORIES OF RECORDS IN THE SYSTEM

* * * * *

[CHANGE TO READ]

3. Business specific information: Business type and location, business IDs, annual revenue, number of employees, industry, nonprofit rate status, mail owner, mail service provider, PC postage user, PC postage vendor, product usage information, annual and/or monthly shipping budget, payment method and information, planned use of product, age of Web site, and information submitted by, or collected from, business customers in connection with promotional marketing campaigns.

* * * * *

7. Online user information: Internet Protocol (IP) address, domain name, operating system versions, browser version, date and time of connection, Media Access Control (MAC) address, device identifier, information about the software acting on behalf of the user (i.e., user agent), and geographic location.

* * * * *

Stanley F. Mires,
Attorney, Legal Policy & Legislative Advice.

[FR Doc. 2014-14404 Filed 6-19-14; 8:45 am]

BILLING CODE 7710-12-P